DEPARTMENT OF COMMERCE

National Oceanic and Atmospheric Administration

[RTID 0648-XB825]

Caribbean Fishery Management Council; Public Meeting

AGENCY: National Marine Fisheries Service (NMFS), National Oceanic and Atmospheric Administration (NOAA), Commerce.

ACTION: Notice of a public meeting.

SUMMARY: The Caribbean Fishery Management Council's (Council) Ecosystem-Based Fishery Management Technical Advisory Panel (EBFM TAP) will hold a two-day hybrid meeting to address the items on the tentative agenda included in the SUPPLEMENTARY INFORMATION.

DATES: The EBFM TAP hybrid meeting will be held on Wednesday, March 16, 2022, from 9 a.m. to 5 p.m., and Thursday, March 17, 2022, from 9 a.m. to 5 p.m. The meeting will be at Eastern Standard Time.

ADDRESSES: You may join the EBFM TAP hybrid meeting via Zoom from a computer, tablet or smartphone by entering the following address:

Join Zoom Meeting: https://us02web.zoom.us/j/88529577669?pwd=cCs0K3lKNGplb0pWYUhkRFM3c3p0dz09

Meeting ID: 885 2957 7669

Passcode: 880869

One tap mobile:

+13462487799,,88529577669#,,,,*880869# US (Houston)

+16465588656,,88529577669#,,,,*880869# US (New York)

Dial by your location:

+1 346 248 7799 US (Houston)

+1 646 558 8656 US (New York)

+1 669 900 9128 US (San Jose)

+1 253 215 8782 US (Tacoma)

+1 301 715 8592 US (Washington DC)

+1 312 626 6799 US (Chicago)

+1 787 945 1488 Puerto Rico

+1 787 966 7727 Puerto Rico

+1 939 945 0244 Puerto Rico

Meeting ID: 885 2957 7669

Passcode: 880869

Find your local number: https://us02web.zoom.us/u/kcY1Z6Jpqa

In case there are problems and we cannot reconnect via Zoom, the meeting will continue using GoToMeeting:

Please join the meeting from your computer, tablet or smartphone. https://meet.goto.com/307547125

You can also dial in using your phone.

United States: +1 (646) 749-3122

Access Code: 307-547-125

Join from a video-conferencing room or system.

Dial in or type: 67.217.95.2 or inroomlink.goto.com

Meeting ID: 307 547 125

Or dial directly: 307547125@67.217.95.2 or 67.217.95.2##307547125

Get the app now and be ready when your first meeting starts: https://meet.goto.com/install

FOR FURTHER INFORMATION CONTACT: Graciela García-Moliner, Caribbean Fishery Management Council, 270 Muñoz Rivera Avenue, Suite 401, San Juan, Puerto Rico 00918-1903, telephone: (787) 403-8337.

SUPPLEMENTARY INFORMATION: The following items included in the tentative agenda will be discussed:

March 16, 2022

9 a.m.-9:30 a.m.

—Roll Call

—Adoption of Agenda

—Approval of Minutes

—TAP Chair Introduction-Sennai Habtes

9:30 a.m.-12:15 p.m.

—Ecosystem Components On-Going Work

9:30 a.m.-10:30 a.m.

—Smithsonian Mangrove Project US Caribbean—Susan Kotikot, Steven Canty

10:30 a.m.-10:40 a.m.

—Break

10:40 a.m.-11:15 a.m.

—Mellivora Consulting Conceptual Models—Michelle Duval

11:15 a.m.-11:45 a.m.

—Introduction of NOAA-Fisheries SEFSC Caribbean Branch Staff (Strategic Plan)

—Southeast Fishery Science Center (SEFSC) Inventory Update—Kevin McCarthy and Rachel Eckley

11:45 a.m.-12:15 p.m.

—SEDAR-Stock Assessment Matrix—Kevin McCarthy, SEFSC

12:15 p.m.-1:15 p.m.

—Lunch Break

1:15 p.m.-1:45 p.m.

—Net Gain Alliance—Improve Data for Fisheries Data Needs: Digital Modernization Project -(https://www.netgainsalliance.org/)

1:45 p.m.-2:05 p.m.

—EBFM Workshop Summary—Tauna Rankin (EBFM Working Group's Workshop on Ecosystem Status Report Applications)

2:05 p.m.-2:20 p.m.

—CFMC's Outreach and Education Advisory Panel Update: Public Engagement—Alida Ortíz

2:20 p.m.-2:30 p.m.

—Break

2:30 p.m.-5 p.m.

—Fishery Ecosystem Plan (FEP) Product Development

2:30 p.m.-3:15 p.m.

—Integrative analyses and visualization of SEAMAP-Caribbean (SEAMAP-C) data in Puerto Rico and the US Virgin Islands (aka The Gold Copy)—JJ Cruz Motta

3:15 p.m.-4 p.m.

—Ecosystem Status Report: Ecosystem Indicators—Kelly Montenero, Mandy Karnauskas, SEFSC

4 p.m.-5 p.m.

—Sargasso Mapping—William Hernández/Roy Armstrong

—Sargasso Impacts on Plankton and Hypoxia—Áurea Rodríguez, Ernesto Otero

—CARICOOS Science: Oceanography and Biology—Julio Morell

March 17, 2022

9 a.m.-12:30 p.m.

—Fishery Ecosystem Plan Product Development (Continue)

—Status of Lenfest Conceptual Models—Tarsila Seara

—Scientific and Statistical Committee (SSC)-District Advisory Panels (DAPs) Models —Liajay Rivera, Richard Appeldoorn

—Plan to Meld Conceptual Models—Potentially Create Task Force—Orian Tzadik

—Risk Assessment and Ecosystem Indicators—Tauna Rankin, JJ Mota, Richard Appeldoorn.

—Future Fishery Ecosystem Plan Product Development Discussion (Goals and Objectives-CFMC)

—How to Develop Strategic Objectives

—Outreach to Other Territorial and Federal Agencies About Impacts to Marine Environment that Affects EBFM

—Lenfest Stakeholder Involvement Project

—How to Develop Operational Objectives

—Overall FEP Outline (Review)

12:30 p.m.-1:30 p.m.

—Lunch Break

1:30 p.m.-5 p.m.

—Other Themes for Discussion

—Status of Data Repository/Needs—Day 1 (Lenfest-Stacey Williams; SEAMAP-C JJ Cruz Motta; other data sets—Orian Tzadik)

—SEFSC Caribbean Branch Data Set Update—Kevin McCarthy

—Legislative Update—Atlas (Marine Protected Areas, Area Based Management)

—Other EBFM Project Incorporation—Sennai Habtes and Kevin McCarthy

The order of business may be adjusted as necessary to accommodate the completion of agenda items. The meeting will begin on March 16, 2022, at 9 a.m. EST, and will end on March 17, 2022 at 5 p.m. EST. Other than the start time, interested parties should be aware that discussions may start earlier or later than indicated, at the discretion of the Chair.

Special Accommodations

For any additional information on this hybrid meeting, please contact Dr. Graciela García-Moliner, Caribbean Fishery Management Council, 270 Muñoz Rivera Avenue, Suite 401, San Juan, Puerto Rico, 00918-1903; telephone: (787) 403-8337.

Authority: 16 U.S.C. 1801 et seq.

Dated: February 17, 2022.
Tracey L. Thompson,
Acting Deputy Director, Office of Sustainable Fisheries, National Marine Fisheries Service.

[FR Doc. 2022-03810 Filed 2-22-22; 8:45 am]

BILLING CODE 3510-22-P